SMALL BUSINESS ADMINISTRATION

[Docket No. SBA-2010-0004]

SBA Lender Risk Rating System

AGENCY: Small Business Administration.

ACTION: Notice; extension of comment period and correction.

SUMMARY: On March 1, 2010, the Small Business Administration (SBA) published a notice in the Federal Register to implement changes to the agency's Risk Rating System (Risk Rating System). The Risk Rating System is an internal tool to assist SBA in assessing the risk of each active 7(a) Lender's and Certified Development Company's (CDC's) SBA loan operations and loan portfolio. The notice provided a sixty (60) day comment period, which closes on April 30, 2010. SBA is extending this comment period an additional thirty (30) days to May 30, 2010. SBA is also correcting the notice to indicate the proper docket number to be referenced when submitting comments, and to clarify the method for calculating the gross past due rate.

DATES: Effective March 18, 2010.

Comment Date: The comment period for the notice published on March 1, 2010 (75 FR 9257) is extended until May 30, 2010.

FOR FURTHER INFORMATION CONTACT: Bryan Hooper, Director, Office of Credit Risk Management, U.S. Small Business Administration, 409 Third Street, SW., 8th Floor, Washington, DC 20416, (202) 205-3049.

Correction

In the Federal Register of March 1, 2010, in FR Doc. 2010-4266, the following corrections are made:

1. On page 9257, in the third column under the heading ADDRESSES the sentence “You may submit comments, identified by RIN number [INSERT RIN NUMBER], by any of the following methods:” is corrected to read as follows: “You may submit comments, identified by Docket Number SBA-2010-0004 by any of the following methods:”

2. On page 9261, in the second column, in the sixth line from the bottom of the column, the sentence “SBA calculates this rate by dividing the sum of the total gross dollars of the CDC's SBA loans in delinquency status as of this date (numerator), by the sum of the total gross dollars of its SBA loans outstanding as of this date (denominator)” is corrected to read as follows: “SBA calculates this rate by dividing the sum of the total gross dollars of the CDC's SBA loans in past-due status as of this date (numerator), by the sum of the total gross dollars of its SBA loans outstanding as of this date (denominator).”

Authority: 15 U.S.C. 634(b)(7) and 15 U.S.C. 687(f).

Dated: March 12, 2010.
Bryan Hooper,
Director, Office of Credit Risk Management.

[FR Doc. 2010-5888 Filed 3-17-10; 8:45 am]

BILLING CODE 8025-01-P